FEDERAL COMMUNICATIONS COMMISSION

47 CFR Parts 51 and 54

[WC Docket Nos. 10-90, 07-135, 05-337, 03-109; GN Docket No. 09-51; CC Docket Nos. 01-92, 96-45; WT Docket No. 10-208; FCC 11-161]

Connect America Fund; A National Broadband Plan for Our Future; Establishing Just and Reasonable Rates for Local Exchange Carriers; High-Cost Universal Service Support

AGENCY: Federal Communications Commission.

ACTION: Final rule; correction.

SUMMARY: The Federal Communications Commission (Commission) published in the Federal Register of May 8, 2012, a document announcing the Office of Management and Budget (OMB) approval of information collections associated with the Commission's; Connect America Fund; A National Broadband Plan for Our Future; Establishing Just and Reasonable Rates for Local Exchange Carriers; High-Cost Universal Service Support, Report and Order, (Order), released on November 18, 2011. That notice was consistent with the Order, which stated that the Commission would publish a document in the Federal Register announcing the effective date of those rules once it receives OMB approval. This document corrects information in the SUPPLEMENTARY INFORMATION section of that document.

DATES: Effective on May 24, 2012.

FOR FURTHER INFORMATION CONTACT: Alex Minard, Wireline Competition Bureau, (202) 418-7400; Email: Alexander.Minard@fcc.gov.

SUPPLEMENTARY INFORMATION: The Commission published a document in the Federal Register of May 8, 2012, (77 FR 26987), announcing OMB's approval of information collections associated with the Commission's Order, released on November 18, 2011. That notice was consistent with the Order, which stated that the Commission would publish a document in the Federal Register announcing the effective date of those rules once it receives OMB approval.

In rule FR Doc. 2012-10631 published at 77 FR 26987, May 8, 2012 make the following correction. On page 26988, in the third column, in the third paragraph, in the second parenthetical of the paragraph, remove “five” and add in its place “two”.

Federal Communications Commission.
Marlene H. Dortch,
Secretary.

[FR Doc. 2012-12674 Filed 5-23-12; 8:45 a.m.]

BILLING CODE 6712-01-P